DEPARTMENT OF COMMERCE

International Trade Administration

[A-570-848]

Freshwater Crawfish Tail Meat From the People's Republic of China: Notice of Rescission, in Part, of Antidumping Duty Administrative Review for the Period September 1, 2000, Through August 31, 2001

AGENCY: Import Administration, International Trade Administration, U.S. Department of Commerce.

SUMMARY: In response to timely requests from interested parties, the Department of Commerce (the Department) initiated an administrative review of the antidumping duty order on freshwater crawfish tail meat from the People's Republic of China (PRC) covering the period September 1, 2000, to August 31, 2001. See Initiation of Antidumping and Countervailing Duty Administrative Reviews and Requests for Revocation in Part, 66 FR 54195 (October 26, 2001). Because the petitioner has withdrawn its request for an administrative review of certain companies, the Department is rescinding, in part, this review of freshwater crawfish tail meat from the PRC, in accordance with section 351.213(d)(1) of the Department's regulations. In addition, the Department is also rescinding the administrative review with respect to three companies which we have found had no exports of the subject merchandise to the United States during the period of review, in accordance with section 351.213(d)(3) of the Department's regulations.

EFFECTIVE DATE: August 6, 2002.

FOR FURTHER INFORMATION CONTACT: Doug Campau or Maureen Flannery, AD/CVD Enforcement, Import Administration, International Trade Administration, U.S. Department of Commerce, 14th Street and Constitution Avenue, NW., Washington DC 20230; telephone: (202) 482-1395 or (202) 482-3020, respectively.

SUPPLEMENTARY INFORMATION:

Applicable Statute and Regulations

Unless otherwise indicated, all citations to the statute are references to the provisions of the Tariff Act of 1930, as amended (the Act). In addition, unless otherwise indicated, all citations to the Department's regulations are to the provisions codified at 19 CFR part 351 (2001).

Background

On September 4, 2001, the Department published a notice of opportunity to request an administrative review of the antidumping duty order on freshwater crawfish tail meat from the PRC. See Antidumping or Countervailing Duty Order, Finding, or Suspended Investigation; Opportunity To Request Administrative Review (66 FR 46257). On September 28, 2001, the Department received a timely request from the Crawfish Processors Alliance, petitioner in this case, and the Louisiana Department of Agriculture & Forestry and Bob Odom, Commissioner, for an administrative review covering the period from September 1, 2000, through August 31, 2001, in accordance with 19 CFR 351.213(b)(1). The petitioner requested a review of the following companies: China Everbright; China Kingdom Import & Export Co., Ltd., aka China Kingdoma Import & Export Co., Ltd., aka Zhongda Import & Export Co., Ltd. (China Kingdom); Coastal (Jiang Su) Foods Co., Ltd. (Coastal Foods); Fujian Pelagic Fishery Group Co. (Fujian Pelagic); Hefei Zhongbao Aquatic Co., Ltd. (Hefei Zhongbao); Huaiyin Foreign Trade Corporation (5), aka Jiangsu Hilong International Trading (Huaiyin 5); Huaiyin Foreign Trade Corporation (30) (Huaiyin 30); Jiangsu Cereals, Oils, & Foodstuffs Import & Export Corp. (Jiangsu Cereals); Nantong Delu Aquatic Food Co., Ltd. (Nantong Delu); Nantong Shengfa Frozen Food Co., Ltd. (Nantong Shengfa); Ningbo Nanlian Frozen Foods Co., Ltd. (Ningbo Nanlian); North Supreme Seafood (Zhejiang) Co., Ltd. (North Supreme); Qingdao Rirong Foodstuff Co., Ltd., aka Qingdao Rirong Foodstuffs (Qingdao Rirong); Qingdao Zhengri Seafood Co., Ltd., aka Qingdao Zhengri Seafoods (Qingdao Zhengri); Rizhao Riyuan Marine and Food Products Co., Ltd. (Rizhao Riyuan); Shanghai Taoen International Trading Co., Ltd. (Shanghai Taoen); Shantou SEZ Yangfeng Marine Products Co. (Shantou SEZ); Shouzhou Huaxiang Foodstuffs Co., Ltd. (Shouzhou Huaxiang); Suqian Foreign Trade Corp., aka Suqian Foreign Trading (Suqian Foreign Trade); Taizhou Tianhe Aquatic Products Co., Ltd. (Taizhou Tianhe); Weishan Fukang Foodstuffs Co., Ltd. (Weishan Fukang); Yancheng Baolong Biochemical Products Co., Ltd. (Yancheng Baolong); Yancheng Foreign Trade Corp., aka Yancheng Foreign Trading, aka Yang Cheng Foreign Trading (Yancheng Foreign Trade); Yancheng Haiteng Aquatic Products & Foods Co., Ltd. (Yancheng Haiteng); Yancheng Yaou Seafoods (Yancheng Yaou); Yangzhou Lakebest Foods Co., Ltd. (Yangzhou Lakebest); and Yixing Ban Chang Foods Co., Ltd. (Yixing Ban Chang).

On September 28, 2001, China Kingdom and Qingdao Zhengri, which were included in the petitioner's request for review, also requested review of their own shipments. The Department published a notice of initiation of this antidumping duty administrative review on October 26, 2001. See Initiation of Antidumping and Countervailing Duty Administrative Reviews and Requests for Revocation in Part, 65 FR 54195 (October 26, 2001).

On December 10, 2001, petitioner withdrew its request for review of the following companies: China Everbright, China Kingdom, Coastal Foods, Huaiyin 30, Hefei Zhongbao, Jiangsu Cereals, North Supreme, Rizhao Riyuan, Shouzhou Huaxiang, Taizhou Tianhe, Yancheng Baolong, Yancheng Yaou, and Yixing Ban Chang. On January 24, 2002, petitioner withdrew its request for review of the following companies: Nantong Delu, Nantong Shengfa, Weishan Fukang, and Yancheng Haiteng.

On November 27, 2001, Huaiyin 5 informed the Department that it did not export the subject merchandise to the United States during the period of review. On November 28, 2001, Ningbo Nanlian informed the Department that it did not export the subject merchandise to the United States during the period of review, and that its affiliated importer, Louisiana Packing Company, did not import the subject merchandise to the United States during the period of review. In addition, on December 27, 2001, Shanghai Taoen informed the Department that it did not produce, sell, or export the subject merchandise to the United States during the period of review. The Department reviewed data on entries under the order during the period of review from the U.S. Customs Service, and requested further information regarding certain entries from Huaiyin 5 and Ningbo Nanlian. Based on the March 18, 2002 responses to its inquiries, the Department is satisfied that those companies had no reportable U.S. entries or exports of subject merchandise during the period of review. The Department's review of U.S. Customs data regarding Shanghai Taoen revealed no reportable U.S. entries or exports of subject merchandise by that company during the period of review.

Rescission, in Part, of the Administrative Review

Pursuant to our regulations, the Department will rescind an administrative review, “if a party that requested the review withdraws the request within 90 days of the date of publication of notice of initiation of the requested review.” See 19 CFR 351.213(d)(1). Since petitioner submitted timely withdrawals of its request for review of China Everbright, China Kingdom, Coastal Foods, Huaiyin 30, Hefei Zhongbao, Jiangsu Cereals, Nantong Delu, Nantong Shengfa, North Supreme, Rizhao Riyuan, Shouzhou Huaxiang, Taizhou Tianhe, Weishan Fukang, Yancheng Baolong, Yancheng Haiteng, Yancheng Yaou, and Yixing Ban Chang, the Department is rescinding its antidumping administrative review of those companies, with the exception of China Kingdom and Yancheng Yaou, in accordance with 19 CFR 351.213(d)(1). On September 28, 2001, China Kingdom requested review of its own shipments. Therefore, the Department cannot rescind the review of that company. In the previous administrative review, covering the period September 1, 1999, through August 31, 2000, Yancheng Yaou and Qingdao Zhengri were treated as a single entity. In the current review, Qingdao Zhengri and Yancheng Yaou have not reported any changes with respect to their ownership and operations. Therefore, although petitioner withdrew its request for review of Yancheng Yaou, the Department is still considering whether it is appropriate to rescind the review for that company.

In addition, the Department's regulations provide that the Secretary “may rescind an administrative review, in whole or only with respect to a particular exporter or producer, if the Secretary concludes that, during the period covered by the review, there were no entries, exports, or sales of the subject merchandise, as the case may be.” See 19 CFR 351.213(d)(3). The Department reviewed data on entries under the order during the period of review from the U.S. Customs Service, and, after further inquiries, is satisfied that Huaiyin 5, Ningbo Nanlian, and Shanghai Taoen had no reportable U.S. entries or exports of the subject merchandise during the period of review. Therefore, the Department is rescinding the administrative review with respect to those companies, in accordance with 19 CFR 351.213(d)(3).

On June 3, 2002, the Department issued a memorandum stating our intent to rescind, in part, the administrative review of the antidumping order on freshwater crawfish tail meat from the PRC. See Memorandum to the File from Adina Teodorescu, Case Analyst, through Barbara E.Tillman, Director, Office of AD/CVD Enforcement VII: Intent to Partially Rescind the Antidumping Administrative Review (on file in the Department's Central Records Unit in Room B-099). We provided copies of the memorandum to all the parties which had received a questionnaire in this review. See Memorandum to the File, through Maureen Flannery, from Adina Teodorescu: Partial Rescission Memorandum for the Antidumping Review of Freshwater Crawfish Tail Meat from the People's Republic of China (June 3, 2002); Memorandum to the File, through Maureen Flannery, from Adina Teodorescu: Partial Rescission Memorandum for the Administrative Review of Freshwater Crawfish Tail Meat from the People's republic of China (June 21, 2002); Memorandum to the File, through Maureen Flannery, from Adina Teodorescu: Attempts to Contact Parties about the Partial Rescission Memorandum for the Administrative Review of Freshwater Crawfish Tail Meat from the People's Republic of China (July 11, 2002). Since none of the parties commented on our intent to rescind, the Department is rescinding, in part, the administrative review of the antidumping duty order on freshwater crawfish tail meat from the PRC for the period September 1, 2000, through August 31, 2001. The Department will issue appropriate assessment instructions to the Customs Service. Although the Department is rescinding the administrative review of Shouzhou Huaxiang and North Supreme, those companies are still subject to new shipper reviews for the period September 1, 2000, through August 31, 2001.

Based on these rescissions, the administrative review of the antidumping duty order on freshwater crawfish tail meat from the PRC, for the period September 1, 2000, through August 31, 2001, now covers the following companies: China Kingdom, Fujian Pelagic, Qingdao Rirong, Qingdao Zhengri/Yancheng Yaou, Shantou SEZ, Suqian Foreign Trade, Yancheng Foreign Trade, and Yangzhou Lakebest.

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

This determination and notice are issued and published in accordance with 19 CFR 351.213(d)(4) and sections 751(a)(1) and 777(i)(1) of the Act.

Dated: July 24, 2002.
Bernard T. Carreau,
Acting Assistant Secretary for Import Administration.

[FR Doc. 02-19826 Filed 8-5-02; 8:45 am]

BILLING CODE 3510-DS-P